GULF COAST ECOSYSTEM RESTORATION COUNCIL

[Docket No.: 107132017-1111-15]

RESTORE Act—Draft 2017 Funded Priorities List: Comprehensive Commitment and Planning Support

AGENCY: Gulf Coast Ecosystem Restoration Council.

ACTION: Notice of availability; request for comments.

SUMMARY: In accordance with the Resources and Ecosystems Sustainability, Tourist Opportunities, and Revived Economies of the Gulf States Act (RESTORE Act or Act), the Gulf Coast Ecosystem Restoration Council (Council) announces the availability of the Draft 2017 Funded Priorities List: Comprehensive Commitment and Planning Support (draft CPS FPL). In the draft CPS FPL, the Council proposes to provide its members with funding to enhance collaboration, coordination, public engagement and use of best available science needed to make efficient use of Gulf restoration funds resulting from the Deepwater Horizon oil spill. These awards will support the Council's commitment to a coordinated approach to ecosystem restoration, as called for in the Comprehensive Plan Update 2016: Restoring the Gulf Coast's Ecosystem and Economy. The draft CPS FPL is now available for public and Tribal review and comment at www.restorethegulf.gov.

DATES: To ensure consideration, we must receive your written comments on the draft CPS FPL by 11:59 p.m. MT August 14, 2017.

Two informational webinars will be conducted:

• July 13, 2017 at 6:00 p.m. Central Time https://register.gotowebinar.com/register/8691294554732234497.

• July 25, 2017 at 2:00 p.m. Central Time https://register.gotowebinar.com/register/6303399390784342017.

You may register for these webinars in advance. Once registered, a link to access the webinar will be sent to the email address provided during registration.

ADDRESSES: You may submit comments on the draft CPS FPL by one of the following methods:

• Electronic Web site Submission: Through the following Web site: www.restorethegulf.gov.

• Email: Submit electronic public comments by email to: frcomments@restorethegulf.gov.

• Mail/Commercial Delivery: You may also mail comments to: Gulf Coast Ecosystem Restoration Council, Attention: Draft FPL Comments, Hale Boggs Federal Building, 500 Poydras Street, Suite 1117, New Orleans, LA 70130.

In general, the Council will make such comments available for public inspection and copying on its Web site, www.restorethegulf.gov without change, including any business or personal information provided, such as names, addresses, email addresses, or telephone numbers. All comments received, including attachments and other supporting materials, will be part of the public record and subject to public disclosure. You should only submit information you wish to make publicly available.

FOR FURTHER INFORMATION CONTACT: Please send questions by email to RestoreCouncil@restorethegulf.gov, or contact Keala J. Hughes at (504) 717-7235.

SUPPLEMENTARY INFORMATION:

Draft 2017 Funded Priorities List: Comprehensive Plan Commitment and Planning Support

The Gulf Coast Ecosystem Restoration Council's (Council) 2016 Comprehensive Plan commits to enhancing collaboration, coordination, public engagement and the use of best available science to support a holistic approach to Gulf of Mexico restoration. This approach reflects the interconnected nature of coastal and marine ecosystems and the importance of addressing system-wide stressors to improve ecosystem function. To that end, the Comprehensive Plan sets forth a vision to guide the Council's future actions:

A Healthy and Productive Gulf Ecosystem Achieved Through Collaboration on Strategic Restoration Projects and Programs

The Council is proposing to provide limited funding over five years to its members to support the aforementioned Comprehensive Plan commitments and identify the future investments that maximize achievement of Gulf-wide restoration goals. The Council is also proposing to review the effectiveness of this funding at year four and consider whether extending planning and commitment support efforts beyond the five-year period is needed to continue to meet the Comprehensive Plan commitments.

The Council refers to this proposal as Comprehensive Plan Commitment and Planning Support (CPS). Pursuant to the RESTORE Act (33 U.S.C. 1321(t)(2)(D)(ii)(V)(bb)), in order to disburse Council-Selected Restoration Component funding to Council members, such funding must first be approved through a Funded Priorities List (FPL). Therefore, the CPS funding is being proposed as a draft 2017 FPL. This FPL development process enables the Council to solicit critical input from key stakeholders and the general public prior to making final decisions regarding CPS funding.

Background and Rationale

The fines and penalties arising from the Deepwater Horizon oil spill represent a once-in-a-lifetime opportunity for large-scale restoration in the Gulf of Mexico. Restoration funding in connection with the Deepwater Horizon oil spill is administered through a variety of programs, each governed by different laws and/or procedures. These programs include the five Resources and Ecosystems Sustainability, Tourist Opportunities, and Revived Economies of the Gulf Coast States Act of 2012 (RESTORE Act) (33 U.S.C. 1321(t) and note) components, Deepwater Horizon Natural Resource Damage Assessment (NRDA), the National Fish and Wildlife Foundation's (NFWF) Gulf Environmental Benefit Fund (GEBF) and other funding sources.

A major challenge to Gulf-wide ecosystem restoration is coordinating efforts within each state, among Council members, among stakeholders within the Gulf region, and across funding streams. Adding to the challenge is the fact that no designated funding stream exists to support Council Member efforts to plan and coordinate restoration activities under the Council-Selected Restoration Component. Historically, Council members have had to rely upon general, tax-generated or appropriated funds to support their involvement in Council-Selected Restoration Component, including FPL development and the Comprehensive Plan update. The funds proposed to be approved in this draft FPL would provide Council members with funding from the Deepwater Horizon oil spill settlement. By supporting collaboration and leveraging among these programs, the Council will be able to produce the greatest on-the-ground restoration results possible.

To effectively and efficiently address the commitments of the Comprehensive Plan, the Council proposes to provide funds necessary for members to:

• Strengthen ecosystem restoration proposals for future FPL(s) under the Council-Selected Restoration component of the RESTORE Act.

○ These funds will allow for the collaborative development of large-scale project and/or program submissions for potential funding through future FPL(s) to advance watershed/estuary-based efforts that were initiated in the Council's Initial FPL.

• Enhance the efficiency of future FPL development processes.

○ Investing in these CPS activities will provide for more thorough development of information on future FPL project/program proposals through the collaborative process.

○ Included in this information could be any necessary pre-submission consultations on best available science and environmental compliance.

○ Collectively, this information may result in potentially faster evaluation and funding of future FPLs.

• Facilitate long-term planning and leveraging efforts across funding streams.

○ Because funds from the Deepwater Horizon oil spill will come in annual installments over the next 15 years, investing in collaborative planning will help the Council develop a 10-year funding strategy based upon the anticipated BP payment schedule.

○ This strategy will include identifying opportunities to leverage across funding streams, as opposed to spending each annual payment on relatively small and possibly disconnected projects.

The Council believes that investing a relatively small amount of time and resources in planning can ensure that restoration projects selected for funding will yield greater ecosystem benefits in the future.

Ensuring Fiscal Responsibility

If approved, the Council intends to incentivize cost savings and efficiency in the CPS effort. Accordingly, if a member does not utilize its full allocation of CPS funding then, subject to Council approval in accordance with the RESTORE Act and all other applicable laws, the Council will take such savings into account when considering that member's proposals for future restoration funding opportunities. In other words, savings in the proposed CPS funds could be used to support specific restoration projects and programs sponsored by the Council member that achieves the savings.

Commitment and Planning Support Activities

The CPS funding will provide the necessary resources for Council members to stimulate and encourage the coordination and collaboration necessary to achieve the commitments of the Comprehensive Plan. By working closely within the Council, and among our restoration partners and the public, the Council believes it can make significant progress towards comprehensive Gulf restoration and provide substantial environmental and economic benefits to current and future generations. For example, the Council anticipates that the proposed CPS funds will be used to collaborate with the Deepwater Horizon NRDA Trustees, NFWF's GEBF and/or other relevant funding programs. Specifically, the CPS funds would cover individual Council Members' costs associated with:

• Evaluating the efficacy of using multiple funding streams to fund a single large-scale restoration and/or conservation project/program beyond what could be achieved through a single funding source.

• Developing project and program concepts that may be pursued for funding in future FPL(s), thereby potentially accelerating implementation of those selected for funding. Note that CPS funds may not be used to advance specific projects and programs beyond what is needed for submission for possible FPL approval.

• Harmonizing projects and programs within a defined geographic area, including a watershed/estuary system, that are temporally and spatially aligned with ecosystem function.

Activities supported by the proposed CPS funding would include the planning, coordination, collaboration, and pre-submission environmental compliance review ¹ that will enable Council members to more effectively:

¹ CPS funds do not cover preparation of environmental compliance documentation (e.g., NEPA documentation) or permit application costs. Such activities are only funded after the given project or program is approved in an FPL, and after a separate grant or Interagency Agreement is awarded.

• Meet the requirements of the RESTORE Act Council-Selected Restoration Component;

• Meet the commitments of the Comprehensive Plan Update (see Appendix A); and

• Address associated planning needs for developing future FPLs.

Allowable Activities

Specifically, categories of activities proposed to be allowed under this CPS FPL would include:

• Planning and collaboration to develop submissions and/or conceptual, pre-submission options for the next FPL. Planning activities must be reasonable and directly related to the Council-Selected Restoration Component FPL development, and could include:

○ Planning and collaboration with other Council members for joint/coordinated proposal submissions;

○ Intra- and inter-state planning with multiple state and/or federal agencies and partners to develop proposals including those requiring multiple partner contributions (e.g., with federal partners to do a project in a state);

○ Intra-member planning to develop proposals including those requiring multiple agency contributions (state and federal);

○ Technical meetings/focus groups (e.g., with other regional efforts such as but not limited to National Estuary Programs; National Estuarine Research Reserve System; National Academies of Sciences, environmentally-focused NGOs, Gulf Research Program; Council Monitoring and Assessment Workgroup; etc.);

○ Public engagement activities for the purposes of developing FPL submissions (e.g., directed stakeholder engagement, public meetings and workshops) to cover expenses such as venues, invited facilitators, speakers, translators, etc.; ²

² The public may include a wide and diverse array of stakeholders, such as Tribes, federal, state and local governments, private businesses, academic and non-governmental organizations (NGOs), and the general public.

○ Process-related activities to support development of project/program options (e.g., developing decision support structures at various levels (e.g., projects, programs, watersheds), preparing materials for collaboration activities, reviewing and addressing public comments on future FPLs);

○ Project scoping, pre-submission environmental compliance review/coordination and engagement, and technical assistance for potential future FPL projects (including Council workgroups); and

○ Collaboration and coordination among Council, NRDA, NFWF, as well as entities identified in the RESTORE Act with roles in the Spill Impact Component to support development of restoration priorities and/or development of jointly funded/implemented projects and programs.

• Staffing in support of planning, collaboration, pre-submission environmental compliance coordination, and meeting other commitments from the Comprehensive Plan;

• Preparation of proposals in accordance with FPL submission guidelines, including entry of proposals into the Council's Restoration Assistance and Award Management System (RAAMS);

• Evaluation activities to determine the impact of the Council's projects/programs and inform adaptive management for future funding decisions. Activities should complement work undertaken through the Council Monitoring and Assessment Program, and could include:

○ Near-term design of an evaluation structure and process,

○ Periodic evaluations of overall Bucket 2 project/program impact at multiple scales, and

○ Development of recommendations for adaptive management.

• Financial support for outreach mechanisms (printing, Web site maintenance, and other similar activities);

• Travel expenses that are reasonable and directly related to the Council-Selected Restoration Component projects/programs development, including:

○ Steering Committee/Council meetings;

○ Meetings with individual Council member agencies and other potential partners to develop project concepts;

○ Meetings to support project/program planning and collaboration;

○ Participation in Council workgroups and FPL project-specific workgroups and committees;

○ Participation in training, conferences, and workshops to facilitate general collaboration among restoration practitioners and scientists and maximize use of existing expertise; and

○ Site visits to support development of reasonably viable projects/program submissions for potential FPL funding.

• Preparation and execution of Interagency Agreements, grants, and other related items required by the Council prior to implementing the scope of work covered by project-specific interagency project-specific activities. These CPS funds would not be able to be used to conduct post-award, project-specific activities. Those costs would be borne by the project itself.

• The allowable uses of CPS funding would not include engineering and design and environmental compliance activities beyond the pre-submission stage (see footnote 1, above).

With these funds, Council members would have the necessary resources to enable stronger support of collaboration activities, including:

• Collaborating on various scales, including:

○ Watershed-scale to sequence projects in alignment with ecosystem function, including evaluation of applicability of various Deepwater Horizon and other funding streams to maximize the effectiveness of conservation efforts;

○ A state-scale and/or landscape-scale geographic area; and

○ Region-wide-scale for restoration planning focused on a specific resource (e.g., oysters, birds) or strategy (e.g., living shorelines).

• Providing opportunities to facilitate the formation of strategic partnerships and collaboration on innovative ecosystem restoration projects, programs, and approaches, including:

○ Public engagement opportunities that reflect the richness and diversity of Gulf Coast communities to ensure ongoing public participation in the Council's restoration efforts;

○ Focused resource and/or geographic-specific discussions with stakeholders and technical experts; and

○ Advancing the ability to achieve, assess, and report on watershed or regional outcomes (i.e., measures, developing indicators to meet Council goals and objectives)

Reporting Elements

Council members utilizing CPS funds under this FPL will provide information on the progress of their respective efforts. The primary focus of reporting is to encourage further collaboration and share best practices/lessons learned. To that end, the following reporting elements of the CPS funding awards would include:

• Semi-Annual Financial and Expenditure written reports, and annual progress summaries, submitted through the Council's RAAMS in adherence to federal financial assistance requirements (2 CFR part 200). The annual progress summaries should include, as appropriate:

○ Collaboration activities and partners,

○ Stakeholders and public engagement workshops/meetings held,

○ FPL-related Planning,

○ Lessons learned, and

○ Potential project/program concepts, which may include such details as:

Watershed, estuary or other geographic areas; and

Council Goal(s) and Objective(s) addressed

• Work with Council Staff to populate and regularly update project/program concepts information in the internal online project/program mapping tool. The purpose is to facilitate pre-submission collaboration between members who may have preliminary interests in similar projects or programs.

CPS activities will also be periodically discussed in Steering Committee meetings to foster additional collaboration and share lessons learned. During these meetings, Council members are encouraged to highlight progress and accomplishments related to this work.

Proposed Funding Amount

The Council proposes to allow each of the 11 Council members to apply for up to $500,000 per year for up to 3 years and up to $300,000 per year for 2 years thereafter, resulting in a total of up to $23.1 million, or 1.44% of the total funds available (not including interest) in the Council-Selected Restoration Component supporting these activities, as detailed in Table 1 (below).

Table 1—Funding for the Commitments and Planning Support Activities
Annual per member (maximum) | Annual total council cap | Total 5-year investment maximum based on annual cap ($M) | Percentage of total Bucket 2 funds
$500K for 3 Years | $5.5M/year for 3 years | 23.1 | *1.44
$300k for 2 Years | $3.3M/year for 2 years
* The 1.44% is calculated based upon total funds provided by BP and other responsible parties; it does not include interest. Therefore, the percentage will be less over time as interest is accrued.

The Council also proposes to review the effectiveness of this funding at year four and consider the need to continue the CPS beyond the five-year period. Based upon this evaluation, the Council will determine whether there is a need to undertake follow-on awards to continue this work. The timing of this review during year four is intended to avoid a lapse in funding. If the need for CPS funding extends beyond 5 years, future awards would use the same FPL amendment process requiring public notice and a formal Council vote.

Summary

The Council has a key role in helping to ensure that the Gulf's natural resources are sustainable and available for future generations. The Gulf restoration funds available now and in the future, represent an incredible opportunity and responsibility for the Council and all the stakeholders in the Gulf Coast region.

In the coming months and years, the Council will focus its efforts on collaboration—among and between members and with other restoration partners—to fully leverage available funds. Through such focused collaboration, the Council can facilitate holistic, large-scale, and coordinated restoration. The CPS funding proposed in this draft FPL is intended to enable the Council to most effectively meet these fundamental commitments. The Council looks forward to hearing from the public on this proposal.

Appendix A—Council Comprehensive Plan Commitments
Topic | Commitment | Page No.
Development of Funded Priority Lists | Take a holistic approach to restoration Continue to improve Submission Guidelines | 13, 14 17
| The Council adopted the watershed/estuary-based approach as a strategic planning principle for future FPL development | 22
| Healthy and sustainable ecosystems are essential for thriving and resilient coastal communities | 23
| Encourage partnerships and additional public and private financial and technical support to maximize outcomes and impacts | 23
| Identify and leverage new sources of funding to support current and future restoration work by exploring creative conservation funding | 25
| The Council will refine its processes for considering public input on draft FPLs before finalizing changes to the final FPL | 25
| Project evaluation and selection will be conducted in the most open manner feasible | 25
| Will update and improve the process for applying BAS to FPL proposals, including exploring the use of one or more science review panels | 27
Collaboration and Coordination | Sponsor and participate in meetings and workshops in 2017 and into 2018 | 17
| Facilitate meaningful engagement with range of stakeholders | 17
| Maximize outcomes by leveraging funds and expertise | 17
| Coordination and collaboration among members and our restoration partners is critical to the success of Gulf restoration | 24
| Coordinate regulatory efforts across Council membership | 26
Science | Decisions made pursuant to the FPL will be based on the best available science | 6, 17, 27
| The Council recognizes the importance of measuring outcomes and impacts in order to achieve tangible results and ensure that funds are invested in a meaningful way | 27

Document Availability: Copies of the draft CPS FPL are available at the following office during regular business hours: Gulf Coast Ecosystem Restoration Council, Hale Boggs Federal Building, 500 Poydras Street, Suite 1117, New Orleans, LA 70130. The draft CPS FPL can also be viewed and downloaded at www.restorethegulf.gov.

Legal Authority: The statutory program authority for the draft FPL is found at 33 U.S.C. 1321(t)(2).

Will D. Spoon,
Program Analyst, Gulf Coast Ecosystem Restoration Council.

[FR Doc. 2017-14690 Filed 7-12-17; 8:45 am]

BILLING CODE 6560-58-P